DEPARTMENT OF JUSTICE

Antitrust Division

Notice Pursuant to the National Cooperative Research and Production Act of 1993—NACE International

Notice is hereby given that, on September 2, 2004, pursuant to section 6(a) of the National Cooperative Research and Production Act of 1993, 15 U.S.C. 4301 et seq. (“the Act”), NACE International (“NACE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: NACE International, Houston, TX. The nature and scope of NACE's standards development activities are: to prepare consensus standards to serve as voluntary guidelines in the field of prevention and control of corrosion; to provide information to aid in reducing the economic losses resulting from corrosion; and to promote the optimal use of natural resources and materials and to prevent their wastage as a result of corrosion.

Additional information concerning NACE's standards development activities may be obtained from Linda Goldberg, Director, Technical Activities, NACE International, at (281) 228-6221.

Dorothy B. Fountain,
Deputy Director of Operations, Antitrust Division.

[FR Doc. 04-22155 Filed 10-1-04; 8:45 am]

BILLING CODE 4410-11-M